DEPARTMENT OF THE INTERIOR

Bureau of Indian Affairs

Submission of Information Collection to the Office of Management and Budget for Review Under the Paperwork Reduction Act

AGENCY: Bureau of Indian Affairs, Interior.

ACTION: Notice of request for renewal.

SUMMARY: In compliance with the Paperwork Reduction Act, this notice announces that the Bureau of Indian Affairs is submitting an information collection to the Office of Management and Budget (OMB) for renewal. The collection concerns the Application for admission to Haskell Indian Nations University and to Southwestern Indian Polytechnic Institute. We are requesting a renewal of clearance and requesting comments on this information collection.

DATES: Written comments must be submitted on or before February 13, 2006.

ADDRESSES: You may submit comments on the information collection to the Desk Officer for Department of the Interior at the Office of Management and Budget, by facsimile to (202) 395-6566 or you may send an e-mail to OIRA_DOCKET@omb.eop.gov.

Please send copies of comments to the Office of Indian Education Programs, 1849 C Street NW., Mail Stop 3609-MIB, Washington, DC 20240.

FOR FURTHER INFORMATION CONTACT: James Redman, (202) 208-4397.

SUPPLEMENTARY INFORMATION:

I. Abstract

The Bureau of Indian Affairs is providing the admission forms for Haskell Indian Nations University and the Southwestern Indian Polytechnic Institute for review and comment. These admission forms are used in determining program eligibility of American Indian and Alaska Native students for educational services. These forms are authorized pursuant to Blood Quantum Act, Public Law 99-228; the Snyder Act, Chapter 115, Public Law 67-85; and, the Indian Appropriations of the 48th Congress, Chapter 180, page 91, For Support of Schools, July 4, 1884.

II. Request for Comments

A 60-day notice requesting comments was published on July 11, 2005 (70 FR 39787). There were no comments received regarding that notice. You are invited to comment on the following items to the Desk Officer at OMB at the citation in ADDRESSES section:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

We will not request nor sponsor a collection of information, and you need not respond to such a request, if there is no valid Office of Management and Budget Control Number.

III. Data

Title: Application for Admission to Haskell Indian Nations University and to Southwestern Indian Polytechnic Institute.

OMB Control Number: 1076-0114.

Type of Review: Renewal.

Brief Description of Collection: These eligibility application forms are necessary to determine a student's eligibility for educational services.

Respondents: Students attending, or seeking admission to, Haskell Indian Nations University (HINU) and to Southwestern Indian Polytechnic Institute (SIPI).

Number of Respondents: 3,943.

Estimated Time per Response: Approximately 30 minutes per application for SIPI, and 40 minutes per application for HINU.

Frequency of Response: At the time of enrollment.

Total Annual Burden to Respondents: 2,214 hours.

Filing fee: $10 per application for HINU; no fee for SIPI.

Dated: December 29, 2005
Michael D. Olsen,
Acting Principal Deputy Assistant Secretary—Indian Affairs.

[FR Doc. E6-337 Filed 1-12-06; 8:45 am]

BILLING CODE 4310-6W-P